DEPARTMENT OF TREASURY

Office of the General Counsel; Appointment of Members of the Legal Division to the Performance Review Board, Internal Revenue Service

Under the authority granted to me as Chief Counsel of the Internal Revenue Service by the General Counsel of the Department of the Treasury by General Counsel Directive 15, pursuant to the Civil Service Reform Act, I have appointed the following persons to the Legal Division Performance Review Board, Internal Revenue Service Panel:

1. Chairperson, William Paul, Deputy Chief Counsel (Technical)

2. Kathryn Zuba, Associate Chief Counsel (Produces & Administration)

3. Joseph Spires, Deputy Division Counsel (Small Business/Self Employed)

4. Richard Lunger, Deputy Division Counsel (Criminal Tax)

5. Victoria Judson, Associate Chief Counsel (Employee Benefits, Exempt Organizations, & Employment Taxes)

Alternate—Edward Patton, Deputy Associate Chief Counsel (General Legal Services)

This publication is required by 5 U.S.C. 4314(c)(4).

Dated: September 16, 2019.
Michael Desmond,
Chief Counsel, Internal Revenue Service.

[FR Doc. 2019-20566 Filed 9-23-19; 8:45 am]

BILLING CODE 4830-01-P